DEPARTMENT OF THE INTERIOR

Fish and Wildlife Service

[FWS-HQ-FAC-2013-N220; FXFR133609ANS09-FF09F14000-134]

Aquatic Nuisance Species Task Force Meeting

AGENCY: Fish and Wildlife Service, Interior.

ACTION: Notice of meeting.

SUMMARY: We, the U.S. Fish and Wildlife Service, announce a public meeting of the Aquatic Nuisance Species (ANS) Task Force. The ANS Task Force's purpose is to develop and implement a program for U.S. waters to prevent introduction and dispersal of aquatic invasive species (AIS); to monitor, control, and study such species; and to disseminate related information.

DATES: The ANS Task Force will meet from 8 a.m. to 4:30 p.m. on Wednesday, November 6, through Thursday, November 7, 2013. For security purposes, registration for the meeting is required. For deadlines to register for this meeting, please see “Public Input” under SUPPLEMENTARY INFORMATION.

ADDRESSES: The ANS Task Force meeting will take place at the National Oceanic and Atmospheric Administration, Building 3 (SSMC3), Room 4527, 1315 East-West Highway, Silver Spring, MD 20910 (301-713-0174).

FOR FURTHER INFORMATION CONTACT: Susan Mangin, Executive Secretary, ANS Task Force, at (703) 358-2466, or by email at Susan_Mangin@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended) and is composed of 13 Federal and 13 ex-officio members and co-chaired by the U.S. Fish and Wildlife Service and the National Oceanic and Atmospheric Administration. The ANS Task Force provides advice on AIS infesting waters of the United States and other nations, among other duties as specified in the Act.

Meeting Agenda

• Federally managed water bodies and AIS issues.

• Asian Carp Surveillance Plan Outside of the Great Lakes.

• Draft Snakehead and Lionfish Management Plans.

• Biocontrol Programs.

• National Invasive Species Awareness Week.

• Environmental DNA.

• Arkansas ANS Management Plan.

• Technical Center for Aquatic Nuisance Species.

• Harvesting AIS.

The final agenda and other related meeting information will be posted on the ANS Task Force Web site at: http://anstaskforce.gov.

Public Input

If you wish to: | You must contact the ANS Task Force Executive Secretary (see FOR FURTHER INFORMATION CONTACT) no later than:
Register for the meeting | October 31, 2013.

Meeting Minutes

Summary minutes of the meeting will be maintained by the Executive Secretary (see FOR FURTHER INFORMATION CONTACT). The minutes will be available for public inspection within 60 days after the meeting and will be posted on the ANS Task Force Web site at http://anstaskforce.gov.

Dated: September 15, 2013.
David Hoskins,
Co-Chair, Aquatic Nuisance Species Task Force, Assistant Director—Fish and Aquatic Conservation.

[FR Doc. 2013-23907 Filed 9-30-13; 8:45 am]

BILLING CODE 4310-55-P